DEPARTMENT OF TRANSPORTATION

Federal Aviation Administration

RTCA, Inc.; Renewal of Charter

AGENCY: Federal Aviation Administration (FAA), DOT.

ACTION: Notice of charter renewal, RTCA, Inc. (utilized as an advisory committee).

SUMMARY: Notice is hereby given of the renewal of the charter for RTCA, Inc. (utilized as an advisory committee) for 2 years, effective March 14, 2001. The Administrator is the sponsor of the committee. The objective of the advisory committee is to seek solutions to problems involving the application of technology (e.g., electronics, computers, and telecommunications) to aeronautical operations that impact the future air traffic management system. The solutions are frequently in the nature of recommended minimum operational performance standards and technical guidance documents which are acceptable to Government, industry, and users. Standards ensure equivalent performance of the same generic equipment built by different manufacturers. RTCA standards are generally referenced or used (with or without modification) in Government regulatory and procurement activities.

The Secretary of Transportation has determined that the information and use of the committee are necessary in the public interest in connection with the performance of duties imposed on the FAA by law. Meetings of the committee will be open to the public except as authorized by section 10(d) of the Federal Advisory Committee Act.

FOR FURTHER INFORMATION CONTACT: Janice Peters, Office of System Architecture and Investment Analysis (ASD-3), 800 Independence Avenue, SW., Washington, DC 20591, Telephone: 202/358-5243.

Issued in Washington, DC, on March 21, 2001.
Janice L. Peters,
Designated Official.

[FR Doc. 01-7500 Filed 3-26-01; 8:45 am]

BILLING CODE 4910-13-M